DEPARTMENT OF TRANSPORTATION

Federal Aviation Administration

14 CFR Part 39

[Docket No. FAA-2010-0642; Directorate Identifier 2007-NM-332-AD]

RIN 2120-AA64

Airworthiness Directives; BAE Systems (Operations) Limited Model BAe 146 and Avro 146-RJ Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

* * * [F]uel leaks and failed fasteners [have been reported] in the region of the rear spar root joint attachment fitting at wing rib 2. * * *

* * * * *

The unsafe condition is stress corrosion failures in the region of the rear spar root joint attachment fitting at wing rib 2, which could lead to reduced structural integrity of the wing, and consequent reduced controllability of the airplane. The proposed AD would require actions that are intended to address the unsafe condition described in the MCAI.

DATES: We must receive comments on this proposed AD by August 16, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact BAE Systems (Operations) Limited, Customer Information Department, Prestwick International Airport, Ayrshire, KA9 2RW, Scotland, United Kingdom; telephone +44 1292 675207; facsimile +44 1292 675704; e-mail RApublications@baesystems.com; Internet http://www.baesystems.com/Businesses/RegionalAircraft/index.htm. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Comments Invited

We invite you to send any written relevant data, views, or arguments about this proposed AD. Send your comments to an address listed under the ADDRESSES section. Include “Docket No. FAA-2010-0642; Directorate Identifier 2007-NM-332-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2007-0270 R1, dated November 7, 2007 (referred to after this as “the MCAI”), to correct an unsafe condition for the specified products. The MCAI states:

British Aerospace originally issued Service Bulletin (SB) 57-033 in 1989 to detect fuel leaks and failed fasteners in the region of the rear spar root joint attachment fitting at wing rib 2. Accomplishment of this SB was mandated by the [Civil Aviation Authority] CAA United Kingdom AD 044-09-89. Revisions 1 through 7 of this SB were introduced to inspect pre mod HCM01447A standard installations for fuel leaks and loose or broken bolts. Modification HCM01447A introduced tension bolts in the attachment fitting instead of the previous Hi-Lok bolts. Revision 8 of the SB introduced inspection instructions for post modification HCM01447A installations because fuel tank leaks and failed fasteners have subsequently been found on aircraft post modification HCM01447A. Inspections of the post-mod HCM01447A standard are required to maintain the structural integrity of the wing. BAE Systems has now published SB 57-033 Revision 9 that specifies additional, calendar-time based, inspection criteria to control the stress corrosion failures of the pre and post modification HCM01447A installations.

EASA AD 2007-0270 supersedes CAA UK AD 044-09-89 and requires the accomplishment of inspections and corrective actions, as necessary, in accordance with BAE Systems SB 57-033 Revision 9.

This [EASA] AD [2007-0270 R1] is revised to clarify that the calendar compliance times are to be counted from the effective date, not from the SB issue date.

The unsafe condition is stress corrosion failures in the region of the rear spar root joint attachment fitting at wing rib 2, which could lead to reduced structural integrity of the wing, and consequent reduced controllability of the airplane. Required actions include a general inspection to identify the type of bolt and nut at each location, external inspections of the bolt installation of the fuel tanks, related investigative actions, and corrective actions, as applicable.

The general inspection includes identifying the type of bolt and nut at each location.

External inspections of the bolt installation include:

• Visually inspecting for proper nut installation, nut seating, and fuel seepage.

• Checking for gaps between the fitting and wing structure.

• Checking the nuts with a suitable torque spanner to the specifications in the torque figures shown in Table 2. of the Accomplishment Instructions of BAE Systems (Operations) Limited Inspection Service Bulletin ISB.57-033, Revision 9, dated October 10, 2006, if Hi-Loks are installed, and

• Doing either an ultrasonic inspection for damaged bolts or torque check of the tension bolts.

Related investigative actions include:

• Inspecting the condition of the sealant at and around all rear spar root joint attachment bolts.

• Checking the bolt for damage or evidence of the nut being tightened to the end of the thread.

• Examining the wear pattern on the seating surfaces of the bolt and nut to determine if the bolt and nut have been evenly seated on the structure.

• Visually inspecting bolt hole and surrounding area for damage, and

• Confirming that the hole edge radius on the forward face of the rear spar complies with the specifications in Table 4 of the Accomplishment Instructions of BAE Systems (Operations) Limited Inspection Service Bulletin ISB.57-033, Revision 9, dated October 10, 2006.

Corrective actions include either replacing the bolt, or repairing the defect in accordance with approved repair data from BAE Systems.

You may obtain further information by examining the MCAI in the AD docket.

Relevant Service Information

BAE Systems (Operations) Limited has issued Inspection Service Bulletin ISB.57-033, Revision 9, dated October 10, 2006. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 1 product of U.S. registry. We also estimate that it would take about 3 work-hours per product to comply with the basic requirements of this proposed AD. The average labor rate is $85 per work-hour. Based on these figures, we estimate the cost of the proposed AD on U.S. operators to be $255.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

BAE Systems (Operations) Limited: Docket No. FAA-2010-0642; Directorate Identifier 2007-NM-332-AD.

Comments Due Date

(a) We must receive comments by August 16, 2010.

Affected ADs

(b) None.

Applicability

(c) This AD applies to all BAE Systems (Operations) Limited Model BAe 146-100A, -200A, and -300A series airplanes, and Model Avro 146-RJ70A, 146-RJ85A, and 146-RJ100A airplanes, certificated in any category.

Subject

(d) Air Transport Association (ATA) of America Code 57: Wings.

Reason

(e) The mandatory continuing airworthiness information (MCAI) states:

* * * [F]uel leaks and failed fasteners [have been reported] in the region of the rear spar root joint attachment fitting at wing rib 2. * * *

* * * * *

The unsafe condition is stress corrosion failures in the region of the rear spar root joint attachment fitting at wing rib 2, which could lead to reduced structural integrity of the wing, and consequent reduced controllability of the airplane.

Compliance

(f) You are responsible for having the actions required by this AD performed within the compliance times specified, unless the actions have already been done.

Actions

(g) At the applicable time in paragraph (g)(1) or (g)(2) of this AD, do a general visual inspection to identify the type of bolt and nut at each location, in accordance with the Accomplishment Instructions of BAE Systems (Operations) Limited Inspection Service Bulletin ISB.57-033, Revision 9, dated October 10, 2006.

(1) For airplanes on which neither Modification HCM01447A nor repair information leaflet (RIL) HC536H9156 (at any location) has been done as of the effective date of this AD, the compliance time for the inspection is at the later of the times specified in paragraphs (g)(1)(i) and (g)(1)(ii) of this AD.

(i) Within 12 months after the effective date of this AD, or within 2 years after the last inspection done in accordance with BAE Systems (Operations) Limited Inspection Service Bulletin ISB.57-033, whichever occurs later, without exceeding 4,000 flight cycles after the last inspection.

(ii) Within 250 flight cycles or 3 months after the effective date of this AD, whichever occurs first.

(2) For airplanes on which either Modification HCM01447A or RIL HC536H9156 (at any location) has been done as of the effective date of this AD, the compliance time for the inspection is at the latest of the times specified in paragraphs (g)(2)(i), (g)(2)(ii), and (g)(2)(iii) of this AD.

(i) Before the accumulation of 4,000 total flight cycles.

(ii) Within 4,000 flight cycles after all bolts are inspected and replaced in accordance with BAE Systems (Operations) Limited Inspection Service Bulletin ISB.57-033.

(iii) Within 12 months after the effective date of this AD.

(h) At the applicable time in paragraph (g)(1) or (g)(2) of this AD, do detailed inspections of the bolt installation for proper nut installation, nut seating, and fuel seepage; a detailed inspection for gaps between the fitting and wing structure; if Hi-Loks are installed, measure the torque of the nuts to determine the specifications in the torque figures shown in Table 2. of the Accomplishment Instructions of BAE Systems (Operations) Limited Inspection Service Bulletin ISB.57-033, Revision 9, dated October 10, 2006; and either an ultrasonic inspection for damaged bolts or a torque measurement of the tension bolts to determine the specifications in the torque figures shown in Table 3. of the Accomplishment Instructions of BAE Systems (Operations) Limited Inspection Service Bulletin ISB.57-033, Revision 9, dated October 10, 2006. Do all actions in accordance with the Accomplishment Instructions of BAE Systems (Operations) Limited Inspection Service Bulletin ISB.57-033, Revision 9, dated October 10, 2006.

(i) If, during any inspection required by paragraph (h) of this AD, any defect (e.g., evidence of fuel seepage, damaged bolts or low bolt torque, loose or rotating nuts, suspect integrity of the bolt/nut assembly, or gaps between the fitting and wing structure) is found, before further flight, do the actions specified in paragraphs (i)(1), (i)(2), (i)(3), (i)(4), and (i)(5) of this AD, in accordance with the Accomplishment Instructions of BAE Systems (Operations) Limited Inspection Service Bulletin ISB.57-033, Revision 9, dated October 10, 2006.

(1) Do a detailed inspection of the sealant for cracks at and around all rear spar root joint attachment bolts.

(2) Do a detailed inspection of the bolt for damage or evidence of the nut being tightened to the end of the thread.

(3) Do a detailed inspection of the wear pattern on the seating surfaces of the bolt and nut to determine if the bolt and nut have been evenly seated on the structure.

(4) Do a detailed inspection of the bolt hole and surrounding area for damage.

(5) Do a detailed inspection to determine that the hole edge radius on the forward face of the rear spar meets the dimensions specified in Table 4 of the Accomplishment Instructions of BAE Systems (Operations) Limited Inspection Service Bulletin ISB.57-033, Revision 9, dated October 10, 2006.

(j) If during any inspection required by paragraph (h) or (i) of this AD, any defects (e.g., evidence of fuel seepage, damaged bolts or low bolt torque, loose or rotating nuts, suspect integrity of the bolt/nut assembly, gaps between the fitting and wing structure, cracked sealant, bolt damage or evidence of the nut being tightened to the end of the thread, uneven seating of the bolt and nut, bolt hole and surrounding area damage, or hole edge radius out of dimensions specified in Table 4 of the Accomplishment Instructions of BAE Systems (Operations) Limited Inspection Service Bulletin ISB.57-033, Revision 9, dated October 10, 2006), is found, before further flight, do all applicable correction actions, which include either replacing the bolt or repairing the defect, in accordance with the Accomplishment Instructions of BAE Systems (Operations) Limited Inspection Service Bulletin ISB.57-033, Revision 9, dated October 10, 2006.

(k) Repeat the inspections in paragraph (h) of this AD thereafter, at the applicable time specified in Table 1 of this AD, for each individual location.

Table 1—Compliance Times for Repeat Inspections
If the location has— | Then repeat the inspection—
A Hi-Lok bolt | Within 4,000 flight cycles or 24 months, whichever occurs earlier, after doing the last inspection.
A tension bolt that was not replaced during the inspections in paragraphs (h) and (i) of this AD and no defects were found | Within 8,000 flight cycles or 48 months, whichever occurs earlier, after doing the last inspection.
A tension bolt that was replaced as required by paragraph (j) of this AD | Within 4,000 flight cycles or 24 months, whichever occurs earlier after doing the replacement.
A tension bolt that was not replaced and any defects were repaired as required by paragraph (j) of this AD | Within 4,000 flight cycles or 24 months, whichever occurs earlier after doing the repair specified in paragraph (j) of this AD.

FAA AD Differences

Note 1: This AD differs from the MCAI and/or service information as follows: Although BAE Systems (Operations) Limited Inspection Service Bulletin ISB.57-033, Revision 9, dated October 10, 2006, allows additional time to rectify the defect for the corrective action depending on the condition, this AD requires rectifying the defect before further flight.

Other FAA AD Provisions

(l) The following provisions also apply to this AD:

(1) Alternative Methods of Compliance (AMOCs): The Manager, International Branch, ANM-116, Transport Airplane Directorate, FAA, has the authority to approve AMOCs for this AD, if requested using the procedures found in 14 CFR 39.19. Send information to ATTN: Todd Thompson, Aerospace Engineer, International Branch, ANM-116, Transport Airplane Directorate, FAA, 1601 Lind Avenue, SW., Renton, Washington 98057-3356; telephone (425) 227-1175; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(m) Refer to MCAI European Aviation Safety Agency Airworthiness Directive 2007-0270 R1, dated November 7, 2007; and BAE Systems (Operations) Limited Inspection Service Bulletin ISB.57-033, Revision 9, dated October 10, 2006; for related information.

Issued in Renton, Washington, on June 23, 2010.
Ali Bahrami,
Manager, Transport Airplane Directorate, Aircraft Certification Service.

[FR Doc. 2010-15981 Filed 6-30-10; 8:45 am]

BILLING CODE 4910-13-P